SOCIAL SECURITY ADMINISTRATION

Statement of Organization, Functions and Delegations of Authority

This statement amends Part S of the Statement of the Organization, Functions and Delegations of Authority which covers the Social Security Administration (SSA). Chapter S2 covers the Deputy Commissioner, Operations. Notice is given that Subchapter S2R, the Office of Central Operations, is being amended to reflect the realignment of the Center for Management Support and the Center for Human Resources into one center; i.e., the Center for Human Resources. The new material and changes are as follows:

Section S2R.10 The Office of Central Operations—(Organization):

C. The Immediate Office of the Associate Commissioner, Office of Central Operations (S2R).

4. The Assistant Associate Commissioner for Management Operations and Support (S2RC).

Delete:

b. The Center for Management Support (S2RC2).

Reletter:

“c” to “b”;

“d” to “c”;

“e” to “d”;

“f” to “e”.

Section S2R.20 The Office of Central Operations—(Functions):

C. The Immediate Office of the Associate Commissioner, OCO (S2R) provides internal operations and management support and assistance to the Associate Commissioner and all OCO components.

4. The Assistant Associate Commissioner for Management and Operations Support (S2RC) is responsible for the direction of six centers which perform systems, management, program, material resources, personnel management services, and security and integrity support functions for OCO.

Delete: “six” prior to the word “centers”.

Add: five

b. The Center for Management Support (S2RC2):

Delete: b in its entirety.

Reletter:

“c” to “b”;

“d” to “c”;

“e” to “d”;

“f” to “e”.

d. The Center for Human Resources (S2RC5): Add: 14. In the area of Labor Management and Employee Relations: Maintain responsibility for all aspects of the mid-term and impact and implementation bargaining process that pertain only to OCO; process grievances through all steps of the grievance procedure; in consultation with the Office of General Counsel, represent OCO managers at all stages of the arbitration process, including the preparation of position papers and briefs; and process all aspects of systems violations in accordance with guidance issued by the Office of Human Resources and the Deputy Commissioner for Operations.

Add: 15. Develops and conducts OCO-wide operational training and employee development activities. Analyzes and evaluates training and effectiveness. Ensures that required Agency-level, other Government agency, and private vendor training is provided.

Add: 16. Resource Planning and Management

Dated: December 24, 2003.
Reginald F. Wells,
Deputy Commissioner for Human Resources.

[FR Doc. 04-684 Filed 1-12-04; 8:45 am]

BILLING CODE 4191-02-U